DEPARTMENT OF TRANSPORTATION

Federal Railroad Administration

[Docket No. FRA 2001-9972; Formerly FRA Docket No. 87-2]

[Notice No. 17]

RIN 2130-AB20

Automatic Train Control (ATC) and Advanced Civil Speed Enforcement System (ACSES); Northeast Corridor (NEC) Railroads

AGENCY: Federal Railroad Administration (FRA), Department of Transportation (DOT).

ACTION: Amendment to Order of Particular Applicability Requiring ACSES Between New Haven, Connecticut and Boston, Massachusetts—Rescission of Temporary Nighttime Operating Protocols.

SUMMARY: In 1998, FRA issued an Order of Particular Applicability (Order) requiring all trains operating on the Northeast Corridor (NEC) between New Haven, Connecticut, and Boston, Massachusetts (NEC—North End) to be equipped to respond to the new Advanced Civil Speed Enforcement System (ACSES). In 2002, CSXT Transportation (CSXT) requested, and FRA granted, permission to run its nighttime operations under temporary operating protocols until further notice. In March 2006, both CSXT and the National Railroad Passenger Corporation (Amtrak) requested that FRA rescind the 2002 CSXT nighttime operating protocols because advancements in the ACSES system had made them unnecessary. On May 1, 2006, FRA notified CSXT and Amtrak by letter that it had agreed to rescind the CSXT nighttime protocols as requested. This amendment conforms the Order accordingly.

DATES: The amendments to the Order are effective June 7, 2006.

FOR FURTHER INFORMATION CONTACT: Paul Weber, Railroad Safety Specialist, Signal and Train Control Division, Office of Safety, Mail Stop 25, FRA, 1120 Vermont Avenue, NW., Washington, DC 20590 ((202) 493-6258) or Patricia V. Sun, Office of Chief Counsel, Mail Stop 10, FRA, 1120 Vermont Avenue, NW., Washington, DC 20590 ((202) 493-6038).

ADDRESSES: Docket: For access to the docket to read background documents or comments received, go to http://dms.dot.gov at any time or to Room PL-401 on the plaza level of the Nassif Building, 400 Seventh Street, SW., Washington, DC, between 9 a.m. and 5 p.m., Monday through Friday, except Federal holidays.

SUPPLEMENTARY INFORMATION: The Order, as published on July 22, 1998, set performance standards for cab signal/automatic train control and ACSES systems, increased certain maximum authorized train speeds, and contained safety requirements supporting improved rail service on the NEC. 63 FR 39343. Among other requirements, the Order required all trains operating on track controlled by Amtrak on the NEC—North End to be controlled by locomotives equipped to respond to ACSES by October 1, 1999. FRA has subsequently amended the Order nine times to reset the implementation schedule and make technical changes. 64 FR 54410, October 6, 1999; 65 FR 62795, October 19, 2000; 66 FR 1718, January 9, 2001; 66 FR 34512, June 28, 2001; 66 FR 57771, November 16, 2001; 67 FR 6753, February 12, 2002; 67 FR 14769, March 22, 2002; 67 FR 47884, July 22, 2002; and 69 FR 12733, March 17, 2004.

The tenth amendment to this Order is effective upon publication instead of 30 days after the publication date in order to realize the significant safety and transportation benefits afforded by the ACSES system at the earliest possible time. All affected parties have been notified.

FRA is not reopening the comment period since the amendment to this Order is necessary to avoid disruption of rail service. Under these circumstances, delaying the effective date of the amendment to allow for notice and comment would be impracticable, unnecessary, and contrary to the public interest.

Rescission of Temporary Nighttime Operating Protocols

In 2002, CSXT requested that FRA extend a June 2001 exception that allowed it to run under modified temporary operating protocols until field testing of Amtrak software on freight operations had been completed. FRA agreed to this request, and on July 22, 2002, published Notice No. 15 (67 FR 47884), which amended the Order by allowing CSXT to operate trains along the NEC—North End between the hours of 12 a.m. to 5 a.m. with ACSES cut out, without prior notification to the Amtrak dispatcher, to reduce the number of penalty brake applications experienced during switching operations.

In a series of joint meetings, Amtrak, CSXT, and FRA agreed that upgrades to the ACSES system's wayside and on-board hardware and software components had improved their reliability to the point where CSXT could now safely operate on the NEC—North End with its on-board ACSES apparatus cut in and without unexpected penalty brake applications. On May 1, 2006, FRA notified CSXT and Amtrak by letter that it had granted their requests to rescind the 2002 CSXT temporary nighttime operating protocols. The amendment to this Order rescinds those protocols only; the positive stop requirement providing entrance to track 4 at Attleboro remains in place.

Accordingly, for the reasons stated in the preamble, the Final Order of Particular Applicability published at 63 FR 39343, July 22, 1998 (Order) is amended as follows:

1. The authority for the Order continues to read as follows: 49 U.S.C. 20103, 20107, 20501-20505 (1994); and 49 CFR 1.49(f), (g), and (m).

2. Subparagraph (a)(1) of paragraph 13 is removed and reserved.

Issued in Washington, DC, on June 2, 2006.
Joseph H. Boardman,
Administrator.

[FR Doc. E6-8859 Filed 6-6-06; 8:45 am]

BILLING CODE 4910-06-P